DEPARTMENT OF COMMERCE

International Trade Administration

[A-552-802]

Certain Frozen Warmwater Shrimp From the Socialist Republic of Vietnam: Partial Rescission of Antidumping Duty Administrative Review; 2018-2019

AGENCY: Enforcement and Compliance, International Trade Administration, Department of Commerce.

SUMMARY: The Department of Commerce (Commerce) is rescinding, in part, the administrative review of the antidumping duty order on certain frozen warmwater shrimp from the Socialist Republic of Vietnam (Vietnam) for the period February 1, 2018, through January 31, 2019.

DATES: Applicable May 31, 2019.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

On May 2, 2019, based on timely requests for review for 107 companies by the Ad Hoc Shrimp Trade Action Committee (the petitioner),¹ 185 companies by the American Shrimp Processors Association (ASPA),² and various Vietnamese companies,³ Commerce published in the Federal Register a notice of initiation of an administrative review of the antidumping duty order on certain frozen warmwater shrimp from Vietnam covering the period February 1, 2018, through January 31, 2019.⁴

¹ See the Petitioner's Request for Administrative Review, dated February 27, 2019.

² See ASPA's Request for Administrative Review, dated February 27, 2019.

³ See, e.g., VASEP's submission, “Request for Administrative Review (02/01/18-01/31/19),” dated February 26, 2019; Soc Trang Seafood Seafood Joint Stock Company's “Request for Review,” dated February 11, 2019.

⁴ See Initiation of Antidumping and Countervailing Duty Administrative Reviews, 84 FR 18777 (May 2, 2019) (Initiation Notice).

On April 25, 2019, Vietnam Fish One Co., Ltd. withdrew its review request.⁵ On May 3, 2019, the petitioner and ASPA withdrew their respective review requests, in part.⁶ On May 3, 2019, various Vietnamese exporters also withdrew their respective review requests.⁷ All interested parties that withdrew their requests for review of companies also included those companies' name variations, as listed in the Initiation Notice and the attached Appendix. All review requests for the company names listed in the Appendix have been withdrawn; no other party requested a review of these exporters.

⁵ See Fish One Letter, “Withdrawal of Review Request: Fish One,” dated April 25, 2019.

⁶ See the Petitioner's Submission, “Domestic Producers' Partial Withdrawal of Review Requests,” dated May 3, 2019; ASPA's Submission, “Partial Withdrawal of Review Requests,” dated May 3, 2019. On May 8, 2019, both the petitioner and ASPA filed additional withdrawal letters to include additional trade names that were inadvertently omitted from their initial withdrawal letters. The petitioner withdrew its requests for review covering 38 companies including name iterations. ASPA withdrew its requests for review covering 85 companies including name iterations.

⁷ See Khanh Sung Company Ltd. Submission, “Withdrawal of Request for Administrative Review,” dated May 3, 2019; Ngoc Tri Joint Stock Company and Tai Kim Seafood Joint Stock Company's Submission, “Withdrawal of Review Request, dated May 3, 2019; VASEP Submission, “Withdrawal of Review Requests,” dated May 3, 2019 (on behalf of 17 exporters and their additional trade names); Trade Pacific Submission, “Withdrawal of Request for Administrative Review,” dated May 6, 2019 (on behalf of two exporters and their additional trade names). A total of 23 Vietnamese exporters, including name iterations, withdrew their respective review requests.

Partial Rescission of Review

Pursuant to 19 CFR 351.213(d)(1), Commerce will rescind an administrative review, in whole or in part, if the party that requested the review withdraws its request within 90 days of the publication of the notice of initiation of the requested review. Because the petitioner, ASPA, and the individual companies all withdrew their requests for administrative review within 90 days of the date of publication of the Initiation Notice, and no other interested party requested a review of these companies, Commerce is rescinding this review with respect to the companies identified in the Appendix, in accordance with 19 CFR 351.213(d)(1).

Assessment

Commerce will instruct U.S. Customs and Border Protection (CBP) to assess antidumping duties on all appropriate entries at a rate equal to the cash deposit of estimated antidumping duties required at the time of entry, or withdrawal from warehouse, for consumption, during the period February 1, 2018, through January 31, 2019, in accordance with 19 CFR 351.212(c)(1)(i). Commerce intends to issue appropriate assessment instructions to CBP 15 days after the publication of this notice in the Federal Register, if appropriate.

Notifications

This notice serves as a reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: May 22, 2019.
Gary Taverman,
Deputy Assistant Secretary for Antidumping and Countervailing Duty Operations.

Appendix I

Companies Rescinded From Review

1. —Bac Lieu Fisheries Joint Stock Company

—Bac Lieu Fisheries Joint Stock Company (“Bac Lieu Fis”)

—Bac Lieu Fisheries Joint Stock Company (Bac Lieu Fis)

—Bac Lieu Fisheries JSC

2. —Ben Tre Forestry and Aquaproduct Import-Export Joint Stock Company (“Faquimex”)

—Ben Tre Forestry and Aquaproduct ImportExport Joint Stock Company (FAQUIMEX)

—Ben Tre Forestry and Aquaproduct Import-Export Joint Stock Company (FAQUIMEX)

—Bentre Aquaproduct Import & Export Joint Stock Company

—Bentre Aquaproduct Import & Export Joint Stock Company (Aquatex Bentre)

3. —C.P. Vietnam Corporation

4. —Ca Mau Frozen Seafood Joint Stock Company (“Seaprimexco Vietnam”)

—Ca Mau Seafood Joint Stock Company (“Seaprimexco Vietnam”)

—Ca Mau Seafood Joint Stock Company (Seaprimexco Vietnam)

—Seaprimexco Vietnam

5. —Cafatex Corporation

6. —Camau Frozen Seafood Processing Import Export Corporation (Camimex)

—Camau Frozen Seafood Processing Import-Export Corporation (“Camimex”)

7. —Camau Seafood and Service Joint Stock Company (“CASES”)

—Camau Seafood and Service Joint Stock Company (Cases)

—Camau Seafood Processing and Service Joint Stock Corporation (and its affiliates, Kien Giang Branch—Camau Seafood Processing & Service Joint Stock Corporation, collectively “CASES”)

—Camau Seafood Processing and Service Joint Stock Corporation (and its affiliates, Kien Giang Branch—Camau Seafood Processing & Service Joint Stock Corporation, collectively “CASES”)

—Camau Seafood Processing and Service Joint Stock Corporation (Cases)

—Camau Seafood Processing and Service Joint-Stock Corporation, Kien Giang Branch.

8. —Can Tho Import Export Fishery Limited Company (“CAFISH”)

—Can Tho Import Export Fishery Limited Company (CAFISH)

9. —Cuulong Seaproducts Company (“Cuu Long Seapro”)

—Cuulong Seaproducts Company (“Cuulong Seapro”)

—Cuulong Seaproducts Company (Cuu Long Seapro)

—Cuulong Seaproducts Company (Cuulong Seapro)

10. —Frozen Seafoods Factory No. 32

11. —Hai Viet Corporation (“HAVICO”)

—Hai Viet Corporation (HAVICO)

12. —Hoang Phuong Seafood Factory

13. —Investment Commerce Fisheries Corporation (“Incomfish”)

—Investment Commerce Fisheries Corporation (Incomfish)

14. —Khanh Sung Co., Ltd

—Khanh Sung Co., Ltd (“Khanh Sung”)

—Khanh Sung Company, Ltd, (“Khanh Sung”)

15. —Kim Anh Co., Ltd.

—Kim Anh Co., Ltd. (“Kim Anh”)

—Kim Anh Company Limited

16. —Minh Hai Export Frozen Seafood Processing Joint-Stock Company (“Minh Hai Jostoco”)

—Minh Hai Export Frozen Seafood Processing Joint-Stock Company (Minh Hai Jostoco)

17. —Minh Hai Joint-Stock Seafoods Processing Company

—Minh Hai Joint-Stock Seafoods Processing Company (“Seaprodex Minh Hai”)

—Minh Hai Joint-Stock Seafoods Processing Company (Seaprodex Minh Hai)

—Sea Minh Hai

—Seaprodex Minh Hai

18. —My Son Seafoods Factory

19. —Nam Hai Foodstuff and Export Company Ltd

20. —Ngoc Tri Seafood Joint Stock Company

—Ngoc Tri Seafood Joint Stock Company (“Ngoc Tri”)

21. —Nha Trang Seafoods

—Nha Trang Seaproduct Company

—Nha Trang Seaproduct Company (and its affiliates NT Seafoods Corporation, Nha Trang Seafoods—F.89 Joint Stock Company, NTSF Seafoods Joint Stock Company (collectively “Nha Trang Seafoods Group”))

—Nha Trang Seaproduct Company (and its affiliates NT Seafoods Corporation, Nha Trang Seafoods—F.86 Joint Stock Company, NTSF Seafoods Joint Stock Company (collectively “Nha Trang Seafoods Group”))

—Nha Trang Seaproduct Company (Nha Trang Seafoods Group)

—NT Seafoods Corporation

—NTSF Seafoods Joint Stock Company

22. —QNL One Member Co., Ltd.

—QNL One Member Co., Ltd. (“QNL”)

23. —Quang Minh Seafood Co., Ltd.

—Quang Minh Seafood Co., Ltd. (“Quang Minh”)

24. —Sao Ta Foods Joint Stock Company

—Sao Ta Foods Joint Stock Company (“FIMEX VN”) (and its factory “Sao Ta Seafoods Factory”)

—Sao Ta Foods Joint Stock Company (FIMEX VN)

—Sao Ta Seafood Factory

—Fimex VN

25. —Seafoods and Foodstuff Factory

26. —Tacvan Frozen Seafood Processing Export Company

—Tacvan Frozen Seafood Processing Export Company (Tacvan Seafoods Co.)

—Tacvan Seafoods Company (“TACVAN”)

—Tacvan Seafoods Company (TACVAN)

27. —Tai Kim Anh Seafood Joint Stock Corporation

—Tai Kim Anh Seafood Joint Stock Corporation (“TAIKA Seafood Corporation”)

—Tai Kim Anh Seafood Joint Stock Corporation (TAIKA Seafood Corporation)

—Taika Seafood Corporation

28. —Taydo Seafood Enterprise

29. —Thong Thuan—Cam Ranh Seafood Joint Stock Company

—Thong Thuan Cam Ranh Seafood Joint Stock Company (“T&T Cam Ranh”)

—Thong Thuan Cam Ranh Seafood Joint Stock Company (T&T Cam Ranh)

—Thong Thuan—Cam Ranh Seafood Joint Stock Company (T&T Cam Ranh)

30. —Thong Thuan Company Limited

—Thong Thuan Company Limited (“T&T”)

—Thong Thuan Company Limited (T&T)

—Cong Ty Tnhh Thong Thuan (Thong Thuan)

31. —Thong Thuan Seafood Company Limited

32. —Thuan Phuoc Seafoods and Trading Corporation

—Thuan Phuoc Seafoods and Trading Corporation (“Thuan Phuoc Corp”)

—Thuan Phuoc Seafoods and Trading Corporation and its separate factories Frozen Seafoods Factory No. 32, Seafoods and Foodstuff Factory, and My Son Seafoods Factory (collectively “Thuan Phuoc Corp.”)

33. —Trang Khanh Seafood Co., Ltd.

—Trang Khanh Seafood Company Limited

34. —Trung Son Seafood Processing Joint Stock Company

35. —UTXI Aquatic Products Processing Company

—UTXI Aquatic Products Processing Company (UTXICO)

—UTXI Aquatic Products Processing Corporation (“UTXICO”) (and its branch Hoang Phuong Seafood Factory and Hoang Phong Seafood Factory)

—UTXI Aquatic Products Processing Corporation (UTXICO)

36. —Viet Foods Co., Ltd.

—Viet Foods Co., Ltd. (“Viet Foods”)

—Viet Foods Co., Ltd. (Viet Foods)

37. —Viet Hai Seafood Co., Ltd.

—Viet Hai Seafood Co., Ltd. (Viet Fish One Co., Ltd.)

—Viet Hai Seafood Co., Ltd. aka Vietnam Fish One Co., Ltd. (“Fish One”)

—Vietnam Fish One Co., Ltd.

—Vietnam Fish-One Co., Ltd.

38. —Viet I-Mei Frozen Foods Co. Ltd (“Viet I-Mei”)

—Viet I-Mei Frozen Foods Co., Ltd.

39. —Vietnam Clean Seafood Corporation (“Vina Cleanfood”)

—Vietnam Clean Seafood Corporation (Vina Cleanfood)

40. —Xi Nghiep Che Bien Thuy Suc San Xuat Kau Cantho

[FR Doc. 2019-11396 Filed 5-30-19; 8:45 am]

BILLING CODE 3510-DS-P